DEPARTMENT OF THE TREASURY

Internal Revenue Service

26 CFR Part 1

[REG-104683-00]

RIN 1545-AX88

Application of Section 904 to Income Subject to Separate Limitations and Computation of Deemed-Paid Credit Under Section 902; Correction

AGENCY: Internal Revenue Service (IRS), Treasury.

ACTION: Corrections to notice of proposed rulemaking and notice of public hearing.

SUMMARY: This document contains corrections to a notice of proposed rulemaking and notice of public hearing that was published in the Federal Register on Wednesday, January 3, 2001 (66 FR 319), relating to the application of section 904 to income subject to separate limitations and computation of deemed-paid credit under section 902.

FOR FURTHER INFORMATION CONTACT: Bethany A. Ingwalson (202) 622-3850 (not a toll-free number).

SUPPLEMENTARY INFORMATION:

Background

The notice of proposed rulemaking and notice of public hearing that is the subject of these corrections is under sections 902 and 904 of the Internal Revenue Code.

Need for Correction

As published, the notice of proposed rulemaking and notice of ublic hearing (REG-104683-00), contains errors that may be misleading and are in need of clarification.

Correction of Publication

Accordingly, the publication of the notice of proposed rulemaking and notice of public hearing (REG-104683-00), which is the subject of FR Doc. 00-32478 is corrected as follows:

1. On page 319, column 2, in the preamble under the caption ADDRESSES, line 9, the language “(REG-106409-00), Courier's Desk,” is corrected to read “(REG-104683-00), Courier's Desk,”.

§ 1.904(b)-1 [Corrected].

2. On page 331, column 3, § 1.904(b)-1(f), paragraph (i) of Example 1., line 4 from the bottom of the paragraph, the language “would have been subject to tax a rate of 20” is corrected to read “would have been subject to tax at a rate of 20”.

Cynthia E. Grigsby,
Chief, Regulations Unit, Office of Special Counsel (Modernization & Strategic Planning).

[FR Doc. 01-6479 Filed 3-20-01; 8:45 am]

BILLING CODE 4830-01-P